DEPARTMENT OF AGRICULTURE

Farm Service Agency

Meeting on the Implementation of the United States Warehouse Act

AGENCY: Farm Service Agency, Agriculture.

ACTION: Notice of meeting.

SUMMARY: To solicit comments and options for consideration in implementing the United States Warehouse Act of 2000 that was enacted on November 9, 2000 (USWA 2000), the Department of Agriculture (USDA) will conduct a public meeting.

The meeting is open to the public with attendance limited to space that will be available on a first come basis. All attendees are asked to be prepared to share information concerning their current and future e-commerce activities. Individuals who plan to attend and need special assistance, such as sign language interpretation or other reasonable accommodations should notify the contact person listed below in advance of the meeting. No registration is required and there is no fee to attend the public meeting.

DATES: The public meeting to present implementation options and to solicit oral comments will be held on January 23, 2001, from 9 a.m. to 4 p.m. E.S.T., in the Jefferson Auditorium of the U.S. Department of Agriculture South Building, 1400 Independence Avenue, SW., Washington, DC, near the Smithsonian Metro Station.

FOR FURTHER INFORMATION CONTACT: Roger Hinkle, Chief, Licensing Authority Branch, Warehouse and Inventory Division, Farm Service Agency, 1400 Independence Avenue SW., STOP 0553, Washington DC 20250, telephone (202) 720-7433; e-mail: Roger_Hinkle@wdc.fsa.usda.gov.

SUPPLEMENTARY INFORMATION: The USWA 2000 was enacted on November 9, 2000, to replace the original United States Warehouse Act (USWA) that was enacted in 1916. USWA 2000 can be found online at: www.fsa.usda.gov/daco/uswamain/public-law-106-472.pdf. This statute was enacted to make Federal warehouse licensing and operations more relevant to today's agricultural marketing and financial systems. USWA 2000 authorizes the Secretary of Agriculture to promulgate regulations governing (1) The issuance and transfer of electronic warehouse receipts across State and international boundaries; (2) the manner in which electronic documents relating to the shipment, payment, and financing of the sale of agricultural products may be issued or transferred, including transfers across State and international boundaries; and (3) the standardization of such electronic documents. This new paperless flow of agricultural commodities from the farm to the end-user will provide significant savings and efficiencies for producers, bankers, warehouse operators, and other affected parties across the nation and throughout the world, and will make U.S. agricultural more competitive in world markets.

Included in USWA 2000 were statutory deadlines for the issuance of proposed and final regulations, and the new statute provides that the current USWA that was enacted in 1916 expires no later than August 1, 2001.

Items that will be discussed in the subject meeting include, but are not limited to the following:

(1) What documents and transactions should USDA make available for e-commerce?

(2) Should USDA standardize criteria and formats for e-commerce concerning commodity warehousing? Financial and business records? Electronic data interchanges? Recordkeeping? Commodity merchandising?

(3) The regulations at 7 CFR 735.100 through 735.105 currently provide specifically for cotton Electronic Warehouse Receipts (EWR) and EWR provider requirements and standards. Should similar regulations and processes be adopted or expanded when including additional commodities? If not, what criteria and requirements should USDA establish for electronic warehouse commerce providers?

(4) What industry and business-based processes should USWA offer?

The agenda includes: (1) Presentation on options currently under consideration for implementing USWA 2000; (2) discussions on the implementation of electronic commerce authorized under USWA 2000, with opportunity for comment; and (3) discussions on warehouse issues, with opportunity for comment.

From 9 a.m. to 12 p.m., the discussion will concentrate on electronic commerce initiatives that are authorized by USWA 2000, and from 1 p.m. to 4 p.m. the discussion will concentrate on the statutory changes that will affect warehousing issues. Each session will (1) outline options that are under consideration for implementing USWA 2000, and (2) provide attendees with an opportunity to present oral comments and submit written and oral questions. An official transcript will be prepared and will be available online at www.fsa.usda.gov/daco/uswamain/uswa2000-transcript.pdf. This official transcript will also be available for public inspection in Room 5968, South Agriculture Building, U.S. Department of Agriculture, 1400 Independence Avenue, SW., Washington, DC, between 8 a.m. and 4:30 p.m., Monday through Friday, except holidays. Persons with disabilities who require alternative means for communication of regulatory information (braille, large print, audiotape, etc.) should contact USDA's TARGET Center at (202) 720-2600 (voice and TDD).

Comments: Written comments can be submitted in hard copy by mail to Roger Hinkle at the address shown above, or by fax at (202) 690-3123, or by e-mail to Roger_Hinkle@wdc.fsa.usda.gov. In order to ensure comments will be received before the meeting, submit written comments no later than January 15, 2001.

Signed at Washington, DC on January 8, 2001.
Carolyn B. Cooksie,
Acting Administrator, Farm Service Agency.

[FR Doc. 01-1020 Filed 1-12-01; 8:45 am]

BILLING CODE 3410-05-P